ENVIRONMENTAL PROTECTION AGENCY

[ER-FRL-8999-6]

Environmental Impact Statements; Notice of Availability

Responsible Agency: Office of Federal Activities, General Information (202) 564-1399 or http://www.epa.gov/compliance/nepa/.

Weekly receipt of Environmental Impact Statements.

Filed 10/10/2011 Through 10/14/2011.

Pursuant to 40 CFR 1506.9.

Notice

Section 309(a) of the Clean Air Act requires that EPA make public its comments on EISs issued by other Federal agencies. EPA's comment letters on EIS are available at: http://www.epa.gov/compliance/nepa/eisdata.html.

EIS No. 20110349, Final EIS, USFS, NV, Ely Westside Rangeland Project, Authorization of Livestock Grazing, To Improve the Health of the Land and To Protect Essential Ecosystem Functions and Values, Implementation, Humboldt-Toiyabe National Forest, Lincoln, Nye, and Pine Counties, NV, Review Period Ends: 11/21/2011, Contact: Vern Keller 775-355-5356.

EIS No. 20110350, Draft EIS, USFS, AZ, Rosemont Copper Project, Proposed Construction, Operation with Concurrent Reclamation and Closure of an Open-Pit Copper Mine, Coronado National Forest, Pima County, AZ, Comment Period Ends: 01/18/2012, Contact: Bev Everson 520-388-8300.

EIS No. 20110351, Final EIS, BLM, OR, North Steens 230-kV Transmission Line Project, Construction and Operation of a Transmission Line and Access Roads Associated with the Echanis Wind Energy Project, Authorizing Right-of-Way Grant, Harney County, OR, Review Period Ends: 11/21/2011, Contact: Skip Renchler 541-573-4443.

EIS No. 20110352, Final EIS, FHWA, CA, Yerba Buena Island Ramps Improvement Project on Interstate 80 (I-80), Proposals to Replace the Existing Westbound on- and off-ramp, Funding, San Francisco County, CA, Review Period Ends: 11/21/2011, Contact: Melanie Brent 510-286-5231.

EIS No. 20110353, Draft EIS, USFS, UT, Fishlake National Forest Oil and Gas Leasing Analysis Project, To Exploration, Development, and Production of Mineral and Energy Resources and Reclamation of Activities, Beaver, Garfield, Iron, Juab, Millard, Piute, Sanpete, Sevier, and Wayne Counties, UT, Comment Period Ends: 12/05/2011, Contact: Diane Freeman 435-896-1050.

EIS No. 20110354, Draft EIS, NOAA, AS, Fagatele Bay National Marine Sanctuary, Management Plan, Implementation, along the southwestern coast of Tutuila Island, AS, Comment Period Ends: 01/06/2012, Contact: Gene Brighouse 684-633-5155 Ext 264.

EIS No. 20110355, Final EIS, FHWA, CA, Northwest Corridor Improvements, I-75/I-575 Construction, New Alternative, USACE Section 404 Permit, NPDES Permit, Cobb and Cherokee Counties, CA, Review Period Ends: 11/21/2011, Contact: Rodney N. Barry 404-562-3630.

EIS No. 20110356, Final EIS, BLM, AZ, Sonoran Solar Energy Project, Construction and Operation of a 3756-megawatt (MW) Concentrated Solar Thermal Power Plant and Ancillary Facilities on 3,702 Areas, Right-of-Way Granting, Maricopa County, AZ, Review Period Ends: 11/21/2011, Contact: Joe Incardine 801-524-3833.

Amended Notices

EIS No. 20110241, Draft EIS, NNSA, NV, Site-Wide EIS—Continued Operation of the Department of Energy/National Nuclear Security Administration, Nevada National Security Site and Off-Site Location in Nevada, Comment Period Ends: 12/02/2011, Contact: Linda M. Cohn 702-295-0077 Revision to FR Notice Published 07/29/2011: Extending Comment Period from 10/27/2011 to 12/02/2011.

Dated: October 18, 2011.
Cliff Rader,
Acting Director, NEPA Compliance Division, Office of Federal Activities.

[FR Doc. 2011-27284 Filed 10-20-11; 8:45 am]

BILLING CODE 6560-50-P